FEDERAL ELECTION COMMISSION

Sunshine Act Meeting

PUBLIC HEARING ON POLITICAL COMMITTEE STATUS.

PLACE: 999 E Street, NW., Washington, DC (ninth floor).

PREVIOUSLY ANNOUNCED DATES AND TIMES: Wednesday, April 14 and Thursday, April 15, 2004, 10 a.m. The starting time has been changed to 9 a.m. on Wednesday April 14, 2004. The starting time has been changed to 9:30 a.m. on Thursday, April 15, 2004.

PERSON TO CONTACT FOR INFORMATION: Mr. Robert Biersack, Acting Press Officer, Telephone: (202) 694-1220.

Darlene Harris,
Deputy Secretary of the Commission.

[FR Doc. 04-8429 Filed 4-9-04; 8:45 am]

BILLING CODE 6715-01-M